NUCLEAR REGULATORY COMMISSION

[Docket No. 030-05626; NRC-2018-0121]

National Aeronautics & Space Administration; John H. Glenn Research Center

AGENCY: Nuclear Regulatory Commission.

ACTION: License amendment application; issuance.

SUMMARY: The U.S. Nuclear Regulatory Commission (NRC) reviewed an application by National Aeronautics & Space Administration John H. Glenn Research Center (NASA Glenn) for amendment of Materials License No. 34-00507-16, which authorizes the use and storage of licensed material for research and development. The amendment would allow the unrestricted release of the NASA Cyclotron Facility, also known as Building 140.

DATES: August 15, 2018.

ADDRESSES: Please refer to Docket ID NRC-2018-0121 when contacting the NRC about the availability of information regarding this document. You may obtain publicly-available information related to this document using any of the following methods:

• Federal Rulemaking Website: Go to http://www.regulations.gov and search for Docket ID NRC-2018-0121. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Michael A. Kunowski, U.S. Nuclear Regulatory Commission, Washington, DC 20555-0001; telephone: 630-829-9618, email: Michael.Kunowski@nrc.gov.

SUPPLEMENTARY INFORMATION: By letter dated May 10, 2017 (ADAMS Accession No. ML17159A717), NASA Glenn submitted to the NRC an application to amend Materials License No. 34-00507-16, to allow the unrestricted release of Building 140 in accordance with the NRC's radiological criteria for unrestricted use found in section 20.1402 of title 10 of the Code of Federal Regulations (10 CFR).

Upon completing its review, the staff determined the request complies with the standards and requirements of the Atomic Energy Act of 1954, as amended (the Act), as well as the NRC's rules and regulations. As required by the Act and the NRC's rules and regulations in 10 CFR chapter I, the staff made the appropriate findings which are contained in the safety evaluation report (ADAMS Accession No. ML18123A475). The staff also prepared an environmental assessment of the proposed action and issued a finding of no significant impact (ADAMS Accession No. ML18124A242). On May 8, 2018 (ML18129A196), the NRC approved and issued Amendment 58 to Materials License No. 34-00507-16, held by NASA Glenn for the release of Building 140. Pursuant to 10 CFR 30.36, the NRC is providing notice of the action taken. Amendment 58 was effective as of the date of issuance.

Dated at Rockville, Maryland, this 9th day of August, 2018.
For the Nuclear Regulatory Commission.
Michael A. Kunowski,
Chief, Materials Control, ISFSI and Decommissioning Branch, Division of Nuclear Materials Safety, Region III.

[FR Doc. 2018-17486 Filed 8-14-18; 8:45 am]

BILLING CODE 7590-01-P